GENERAL SERVICES ADMINISTRATION

[Notice-A-2024-01; Docket No. 2024-0002; Sequence No.7]

Reservation Economic Summit (RES) Tribal Consultation Notice

AGENCY: Office of the Administrator; General Services Administration, (GSA).

ACTION: Meeting notice.

SUMMARY: GSA is hosting a Tribal Consultation at the National Center for American Indian Enterprise Development (NCAIED) Reservation Economic Summit to discuss interests and concerns surrounding GSA's support of Tribes through its SAM.gov system.

DATES: March 13, 2024; 2 to 4:20 p.m. Pacific standard time (PST).

ADDRESSES: Caesars Palace, 3570 S Las Vegas Blvd., Las Vegas, NV 89109.

FOR FURTHER INFORMATION CONTACT: Mrs. Julie Ramey, GSA Office of the Administrator, GSA Tribal Liaison, (202) 969-7282, tribalaffairs@gsa.gov.

SUPPLEMENTARY INFORMATION:

Background

On behalf of the U.S. General Services Administration, I would like to invite you to a government-to-government consultation to discuss your interests, concerns, and suggestions surrounding GSA's support of Tribes through its SAM.gov system. The consultation will take place Wednesday, March 13, 2024, from 2 through 4:20 p.m. PST at the Reservation Economic Summit (RES) in Las Vegas, NV hosted by the National Center for American Indian Enterprise Development (NCAIED).

GSA leadership understands that some members of Tribal communities have experienced challenges with the entity registration and renewal process using SAM.gov. Pursuant to the December 6, 2023 Executive order on Reforming Federal Funding and Support for Tribal Nations to Better Embrace Our Trust Responsibilities and Promote the Next Era of Tribal Self-Determination, we recognize that formal consultation with Tribal Nations is essential as GSA takes actions to improve Tribes' abilities to efficiently navigate SAM.gov, access funding opportunities and execute procurements. GSA representatives would also like to discuss the registration and renewal processes, requirements, and user experience on the SAM.gov system. We are also interested in getting input surrounding GSA's SAM.gov Federal acquisitions website. Your feedback during the consultation will be utilized to help GSA build a tribal user specific strategic plan and inform appropriate process improvements for both GSA and Tribal personnel to effectively do business with the Government.

As stated in the Executive order, the Biden-Harris Administration is “committed to protecting and supporting Tribal sovereignty and self-determination, and to honoring our trust and treaty obligations to Tribal Nations.” In order to increase the accessibility, equity, flexibility, and utility of Federal funding and support programs for Tribal Nations, GSA is committed to working on ways to streamline a Tribe's ability to both receive funds from Government agencies and procure Government goods and services.

In addition to participating in the in-person consultation opportunity, GSA asks that you fill out a short, 10-question survey to help inform our Tribal User Specific strategic plan. This survey is also an opportunity to provide additional context in the comments section to any issues, concerns, or suggestions. Our goals are to:

1. Understand the needs of Tribal Nations with respect to SAM.gov purchasing.

2. Learn about the challenges that some Tribal Nations and Tribal Entities have faced when registering on SAM.gov.

3. Learn about challenges that Tribal Nations face when procuring goods or services and/or receiving funds through SAM.gov.

While registration for the RES 2024 event is not required to participate, we do ask that you register for the consultation through our website, or onsite, so that we can accurately identify the Tribal representatives attending the meeting. Tribes can register for the consultation and access the survey link on our website at gsa.gov/tribal.

These resources are intended to help Tribal leaders anticipate discussion items for consultation and consider Tribal interests related to the topics. The official comment period for this consultation will remain open for 30 days after the in-person consultation session occurs; however, our partnership with Tribal leadership will carry on.

Additional comments outside of the survey can be submitted via email at tribalaffairs@gsa.gov. Please use the subject line “GSA 2024 TRIBAL CONSULTATION COMMENTS SUBMISSION.”

I am committed to transparency and collaboration with Tribal Governments, and I believe we can achieve positive outcomes for all stakeholders through a government-to-government relationship that is rooted in respect and earned trust.

Robin Carnahan,
GSA Administrator, General Services Administration.

[FR Doc. 2024-03811 Filed 2-23-24; 8:45 am]

BILLING CODE 6820-34-P